DEPARTMENT OF COMMERCE

National Oceanic and Atmospheric Administration

15 CFR Part 902

[Docket No. 0811251525-81526-01]

RIN 0648-AS36

Endangered Fish and Wildlife; Final Rule To Implement Speed Restrictions To Reduce the Threat of Ship Collisions With North Atlantic Right Whales

AGENCY: National Marine Fisheries Service (NMFS), National Oceanic and Atmospheric Administration (NOAA), Commerce.

ACTION: Final rule; OMB approval of collection-of-information requirements.

SUMMARY: NMFS announces approval by the Office of Management and Budget (OMB) of collection-of-information requirements contained in regulations implementing speed restrictions to reduce the incidence and severity of ship collisions with North Atlantic right whales.

DATES: Effective December 9, 2008.

ADDRESSES: Written comments regarding burden-hour estimates or other aspects of the collection-of-information requirements contained in this final rule may be submitted to NMFS, Office of Protected Resources, 1315 East-West Highway, Silver Spring, MD 20910.

FOR FURTHER INFORMATION CONTACT: Gregory Silber, Ph.D., or Shannon Bettridge, Ph.D., Fishery Biologists, Office of Protected Resources, NMFS, at (301) 713-2322.

SUPPLEMENTARY INFORMATION:

Electronic Access

This Federal Register document is also accessible at the Web site of the Office of the Federal Register: http://www.gpoaccess.gov/fr/index.html.

Background

On October 10, 2008, NMFS published a final rule implementing speed restrictions to reduce the incidence and severity of ship collisions with North Atlantic right whales (73 FR 60173). That final rule contained a collection-of-information requirement subject to the Paperwork Reduction Act (PRA) that had not yet been approved by OMB. Specifically, 50 CFR 224.105(c) requires a logbook entry to document that a deviation from the 10-knot speed limit was necessary for safe maneuverability under certain conditions.

On October 30, 2008, OMB approved the collection-of-information requirements contained in the October 10, 2008, final rule. NMFS announces that the collection-of-information requirements are approved under Control Number 0648-0580, with an expiration date of April 30, 2009.

List of Subjects in 15 CFR Part 902

Reporting and recordkeeping requirements.

Dated: December 1, 2008.
Samuel D. Rauch III,
Deputy Assistant Administrator for Regulatory Programs, National Marine Fisheries Service.

For the reasons stated in the preamble, 15 CFR part 902 is amended as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, the table in paragraph (b) under “50 CFR” is amended by adding a new entry in numerical order to read as follows:

§ 902.1 OMB control numbers assigned pursuant to the Paperwork Reduction Act.

* * * * *

CFR part or section where the information collection requirement is located | Current OMB control number (All numbers begin with 0648-)
* * * * *
50 CFR
* * * * *
224.105(c) | -0580
* * * * *

[FR Doc. E8-28874 Filed 12-4-08; 8:45 am]

BILLING CODE 3510-22-P